DEPARTMENT OF HOMELAND SECURITY

Federal Emergency Management Agency

44 CFR Part 67

[Docket ID FEMA-2008-0020; Internal Agency Docket No. FEMA-B-1060]

Proposed Flood Elevation Determinations for Cumberland County, ME (All Jurisdictions)

AGENCY: Federal Emergency Management Agency, DHS.

ACTION: Notice of proposed rulemaking; withdrawal.

SUMMARY: The Federal Emergency Management Agency (FEMA) is withdrawing its notice of proposed rulemaking concerning proposed flood elevation determinations for Cumberland County, Maine (All Jurisdictions).

DATES: Effective Date: The notice of proposed rulemaking is withdrawn on January 20, 2011.

ADDRESSES: The docket for this withdrawn rulemaking is available for inspection or copying at 500 C St., SW., Washington, DC 20472.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: On August 9, 2010, FEMA published a proposed rulemaking at 75 FR 47751, proposing flood elevation determinations along multiple flooding sources in Cumberland County, Maine. FEMA is withdrawing the proposed rulemaking in order to convert the Cumberland County flood study to FEMA's Risk Mapping, Assessment, and Planning (Risk MAP) Program as requested by several communities in the county.

Authority: 42 U.S.C. 4104; 44 CFR 67.4.

Dated: January 11, 2011.
Edward L. Connor,
Acting Federal Insurance and Mitigation Administrator, Mitigation, Department of Homeland Security, Federal Emergency Management Agency.

[FR Doc. 2011-1125 Filed 1-19-11; 8:45 am]

BILLING CODE 9110-12-P